DEPARTMENT OF LABOR

Employment and Training Administration

[TA-W-38,243]

Color-Tex International, North Carolina Finishing Division, Salisbury, North Carolina; Notice of Revised Determination on Reconsideration

On April 16, 2001, the Department issued a notice of affirmative determination regarding application for reconsideration of the denial of trade adjustment assistance for workers of the subject firm. The notice was published in the Federal Register on May 3, 2001 (66 FR 22263).

Workers of Color-Tex International, North Carolina Finishing Division, Salisbury, North Carolina, engaged in employment related to dying and finishing fabric, were initially denied TAA because the “contributed importantly” criterion of the Trade Act of 1974, as amended, was not met.

The petitioner provided a listing of additional customers of the subject firm. A survey of the additional customers revealed that they had reduced purchases from North Carolina Finishing and increased imports of dyed and finished fabric during the time period relevant to the investigation.

Conclusion

After careful consideration of the new facts obtained on reconsideration, it is concluded that increases in imports of articles like or directly competitive with dyed and finished fabric produced at the subject firm contributed importantly to the decline in sales or production and to the total or partial separation of workers of that firm. In accordance with the provisions of the Trade Act of 1974, I make the following revised determination:

All workers of Color-Tex International, North Carolina Finishing Division, Salibury, North Carolina, who became totally or partially separated from employment on or after October 4, 1999, through two years from the date of this issuance, are eligible to apply for adjustment assistance under Section 223 of the Trade Act of 1974.

Signed at Washington, DC, this 25th day of October 2001.
Linda G. Poole,
Certifying Officer, Division of Trade Adjustment Assistance.

[FR Doc. 01-31146 Filed 12-17-01; 8:45 am]

BILLING CODE 4510-30-M